NUCLEAR REGULATORY COMMISSION

10 CFR Part 61

EPA Publication of Advance Notice of Proposed Rulemaking Regarding the Disposal of Low-Activity Radioactive Waste: Request for Comment

AGENCY: Nuclear Regulatory Commission.

ACTION: Announcement of the Environmental Protection Agency Advance Notice of Proposed Rulemaking—“Approaches to an Integrated Framework for Management and Disposal of Low-Activity Radioactive Waste: Request for Comment.”

SUMMARY: The Nuclear Regulatory Commission (NRC) announces publication of an Advance Notice of Proposed Rulemaking by the Environmental Protection Agency (EPA) requesting comments on approaches to an integrated framework for management and disposal of low-activity radioactive waste. EPA is considering revising their regulations to permit disposal of certain types of mixed waste, i.e., waste that is characterized as hazardous waste under the Resource Conservation and Recovery Act (RCRA), and radioactive waste under the Atomic Energy Act.

DATES: The comment period on EPA's ANPR expires March 17, 2004.

ADDRESSES: Comments regarding the content of the ANPR should be sent to Dan Schultheisz, Radiation Protection Division, Office of Radiation and Indoor Air Mailcode: 6608J, United States Environmental Protection Agency, 20460-0001; telephone (202) 343-9300; e-mail schultheisz.daniel@epa.gov.

FOR FURTHER INFORMATION CONTACT: Patricia Eng, Office of Nuclear Material Safety and Safeguards, U.S. Nuclear Regulatory Commission, Washington, DC 20555-0001, telephone (301) 415-7206, e-mail, ple@nrc.gov.

SUPPLEMENTARY INFORMATION:

Background

The Environmental Protection Agency (EPA) and the U.S. Nuclear Regulatory Commission (NRC) have discussed the possibility of mixed waste disposal in RCRA permitted facilities. Mixed waste is waste that is regulated by both the Resource Conservation and Recovery Act (RCRA), and by the Atomic Energy Act (AEA). Before initiating any rulemaking efforts, EPA is seeking public comment on a number of issues related to the disposal of mixed waste in RCRA permitted facilities in its Advance Notice of Proposed Rulemaking, “Approaches to an Integrated Framework for Management and Disposal of Low-Activity Radioactive Waste: Request for Comment,” published today.

Notice

The NRC is announcing publication of EPA's Advance Notice of Proposed Rulemaking today in an effort to keep NRC stakeholders informed about regulatory issues which may affect them. EPA's ANPR seeks comment on a number of issues associated with disposal of mixed waste in RCRA permitted facilities, including a discussion of how NRC could be involved. Comments and questions regarding the content of the EPA ANPR should be directed to: Dan Schultheisz, Radiation Protection Division, Office of Radiation and Indoor Air Mailcode: 6608J, United States Environmental Protection Agency, 20460-0001; telephone (202) 343-9300; e-mail schultheisz.daniel@epa.gov.

Dated at Rockville, Maryland, this 7th day of November 2003.
For the Nuclear Regulatory Commission.
Charles L. Miller,
Director, Division of Industrial and Medical and Nuclear Safety, Office of Nuclear Material Safety and Safeguards.

[FR Doc. 03-28496 Filed 11-17-03; 8:45 am]

BILLING CODE 7590-01-P